DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2016 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the fall 2015 agenda. The purpose of the Agenda is to provide information to the public on regulations that are currently under review, being proposed, or issued by Commerce. The agenda is intended to facilitate comments and views by interested members of the public.

Commerce's spring 2016 regulatory agenda includes regulatory activities that are expected to be conducted during the period April 1, 2016, through March 31, 2017.

FOR FURTHER INFORMATION CONTACT: Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its spring 2016 Unified Agenda of Federal Regulatory and Deregulatory Actions pursuant to Executive Order 12866 and the Regulatory Flexibility Act, 5 U.S.C. 601 et seq. Executive Order 12866 requires agencies to publish an agenda of those regulations that are under consideration pursuant to this order. By memorandum of February 19, 2016, the Office of Management and Budget issued guidelines and procedures for the preparation and publication of the spring 2016 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet.

Within Commerce, the Office of the Secretary and various operating units may issue regulations. Among these operating units, the National Oceanic and Atmospheric Administration (NOAA), the Bureau of Industry and Security, and the Patent and Trademark Office issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. For fisheries that require conservation and management measures, eight Regional Fishery Management Councils (Councils) prepare Fishery Management Plans (FMPs) for the fisheries within their respective areas. Regulations implementing these FMPs regulate domestic fishing and foreign fishing where permitted. Foreign fishing may be conducted in a fishery in which there is no FMP only if a preliminary fishery management plan has been issued to govern that foreign fishing. In the development of FMPs, or amendments to FMPs, and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's spring 2016 regulatory agenda follows.

Kelly Welsh,
General Counsel.

National Oceanic and Atmospheric Administration—Proposed Rule Stage
Sequence No. | Title | Regulation Identifier No.
29 | Amendment 5b to the Highly Migratory Species Fishery Management Plan | 0648-BD22
30 | Implementation of a Program for Transshipments by Large Scale Fishing Vessels in the Eastern Pacific Ocean | 0648-BD59
31 | Regulatory Amendment 16 to the Fishery Management Plan for the Snapper-Grouper Fishery of the South Atlantic Region | 0648-BD78
32 | Omnibus Acceptable Biological Catch Framework Adjustment | 0648-BE65
33 | Modification of the Temperature-Dependent Component of the Pacific Sardine Harvest Guideline Control Rule To Incorporate New Scientific Information | 0648-BE77
34 | Reductions in Fishing Capacity for Lobster Management Areas 2 and 3 | 0648-BF01
35 | Pacific Coast Groundfish Trawl Rationalization Program; Widow Rockfish Reallocation in the Individual Fishing Quota Fishery | 0648-BF12
36 | Amendment 18 to the Northeast Multispecies Fishery Management Plan (Section 610 Review) | 0648-BF26
37 | Allow the Use of Longline Pot Gear in the Gulf of Alaska Sablefish Individual Fishing Quota Fishery | 0648-BF42
38 | Atlantic Highly Migratory Species; Atlantic Blacknose Shark Commercial Retention Limit | 0648-BF49
39 | Amendment 113 to the FMP for Groundfish of the BSAI Management Area To Establish a Catcher Vessel Fishing Period and Shoreside Processing Delivery Requirements for Aleutian Islands Pacific Cod | 0648-BF54
40 | Regulatory Amendment 25 to the Fishery Management Plan for the Snapper-Grouper Fishery of the South Atlantic Region | 0648-BF61
41 | Specification of Management Measures for Atlantic Herring for the 2016-2018 Fishing Years | 0648-BF64
42 | Amendment 19 to the Atlantic Sea Scallop Fishery Management Plan (FMP) | 0648-BF72
43 | Amendment 17A to the Fishery Management Plan for the Shrimp Fishery of the Gulf of Mexico, U.S. Waters | 0648-BF77
44 | Framework Amendment 1 to the Dolphin and Wahoo Fishery Management Plan of the Atlantic | 0648-BF81
45 | Omnibus Essential Fish Habitat Amendment 2 | 0648-BF82
46 | Amendment 103 to the Fishery Management Plan for Groundfish of the Gulf of Alaska to Reapportion Chinook Salmon Prohibited Catch in the Gulf of Alaska Trawl Fisheries | 0648-BF84
47 | Framework Adjustment 3 to the Northeast Skate Complex Fishery Management Plan | 0648-BF87
48 | 2016-2018 Spiny Dogfish Fishery Specifications | 0648-BF88
49 | 2016 Summer Flounder, Scup, and Black Sea Bass Recreational Harvest Measures (Section 610 Review) | 0648-BF89

National Oceanic and Atmospheric Administration—Final Rule Stage
Sequence No. | Title | Regulation Identifier No.
50 | Amendment 7 to the 2006 Consolidated Highly Migratory Species Fishery Management Plan | 0648-BC09
51 | Amendment 39 to the Fishery Management Plan for the Reef Fish Resources of the Gulf of Mexico | 0648-BD25
52 | Amendment 28 to the Fishery Management Plan for the Reef Fish Resources of the Gulf of Mexico (Section 610 Review) | 0648-BD68
53 | Amendment 35 to the Fishery Management Plan for the Snapper Grouper Fishery of the South Atlantic Region | 0648-BE70
54 | Pacific Coast Groundfish Fishing Capacity Reduction Loan Refinance (Section 610 Review) | 0648-BE90
55 | Amendment 109 to the Fishery Management Plan for Groundfish of the BSAI To Facilitate Development of Groundfish Fisheries for Small Vessels in the Western Alaska Community Development Quota Program | 0648-BF05
56 | Magnuson-Stevens Fisheries Conservation and Management Act; Seafood Import Monitoring Program | 0648-BF09
57 | Process for Divestiture of Excess Quota Shares (Section 610 Review) | 0648-BF11
58 | Implementation of Salmon Bycatch Management Measures for the Bering Sea Pollock Fishery | 0648-BF25
59 | Cost Recovery Authorized Payment Methods | 0648-BF35
60 | Amendment 102 to the Fishery Management Plan for Groundfish of the Gulf of Alaska | 0648-BF36
61 | 2016-2018 Specifications and Management Measures for the Atlantic Mackerel, Squid, and Butterfish Fishery Management Plan | 0648-BF53
62 | Framework Adjustment 27 to the Atlantic Sea Scallop Fishery Management Plan | 0648-BF59
63 | Revisions to the Pacific Halibut Catch Sharing Plan, Codified Regulations, and Annual Management Measures for 2016 and Beyond | 0648-BF60
64 | Framework Action To Modify the Gag Minimum Size Limits, Recreational Season, and Black Grouper Minimum Size Limits in the Gulf of Mexico (Section 610 Review) | 0648-BF70

National Oceanic and Atmospheric Administration—Long-Term Actions
Sequence No. | Title | Regulation Identifier No.
65 | Comprehensive Fishery Management Plan for Puerto Rico | 0648-BD32
66 | Comprehensive Fishery Management Plan for St. Croix | 0648-BD33
67 | Comprehensive Fishery Management Plan for St. Thomas/St. John | 0648-BD34
68 | Designate Critical Habitat for the Hawaiian Insular False Killer Whale Distinct Population Segment | 0648-BC45
69 | Designation of Critical Habitat for the Arctic Ringed Seal | 0648-BC56

National Oceanic and Atmospheric Administration—Completed Actions
Sequence No. | Title | Regulation Identifier No.
70 | Fishery Management Plan for Regulating Offshore Marine Aquaculture in the Gulf of Mexico | 0648-AS65
71 | Atlantic Highly Migratory Species; Future of the Atlantic Shark Fishery | 0648-BA17
72 | Implement the 2010 Shark Conservation Act Provisions and Other Regulations in the Atlantic Smoothhound Shark Fishery | 0648-BB02
73 | Implementation of the Inter-American Tropical Tuna Commission Resolution To Establish a Vessel Monitoring System Program in the Eastern Pacific Ocean | 0648-BD54
74 | Amendment 7 to the FMP for the Dolphin Wahoo Fishery of the Atlantic and Amendment 33 to the FMP for the Snapper-Grouper Fishery of the South Atlantic | 0648-BD76
75 | Amendment 8 to the Fishery Management Plan for Coral, Coral Reefs, and Live/Hard Bottom Habitats of the South Atlantic Region | 0648-BD81
76 | Cost Recovery from Amendment 80, CDQ Groundfish and Halibut, American Fisheries Act and Aleutian Islands Pollock, and the Freezer Longline Coalition Pacific Cod Fisheries Management Programs | 0648-BE05
77 | Generic Accountability Measure and Dolphin Allocation Amendment for the South Atlantic Region | 0648-BE38
78 | International Fisheries; Western and Central Pacific Fisheries for Highly Migratory Species; Fishing Effort and Catch Limits and other Restrictions and Requirements | 0648-BE84
79 | Revision of Skate Maximum Retainable Amounts in the Gulf of Alaska Groundfish Fishery | 0648-BE85
80 | Amendment 44 to the Fishery Management Plan for Bering Sea/Aleutian Islands King and Tanner Crabs to Modify Right of First Refusal Provisions of the Crab Rationalization Program | 0648-BE98
81 | Framework Amendment 3 to the Fishery Management Plan for the Coastal Migratory Pelagic Resources of the Gulf of Mexico and Atlantic Region | 0648-BF14
82 | Framework Amendment to the Fishery Management Plan for the Reef Fish Resources of the Gulf of Mexico to Modify Greater Amberjack Allowable Harvest and Management Measures | 0648-BF21
83 | Framework Amendment to the Fishery Management Plan for the Reef Fish Resources of the Gulf of Mexico for Red Snapper Commercial Quota Retention for 2016 | 0648-BF33
84 | Designation of Critical Habitat for the North Atlantic Right Whale | 0648-AY54
85 | Endangered and Threatened Species: Designation of Critical Habitat for Threatened Lower Columbia River Coho Salmon and Puget Sound Steelhead | 0648-BB30
86 | Revisions to Hawaiian Islands Humpback Whale National Marine Sanctuary Regulations | 0648-BD97

Patent and Trademark Office—Proposed Rule Stage
Sequence No. | Title | Regulation Identifier No.
87 | Trademark Fee Adjustment | 0651-AD08

DEPARTMENT OF COMMERCE (DOC)

National Oceanic and Atmospheric Administration (NOAA)

Proposed Rule Stage

National Marine Fisheries Service

29. Amendment 5B to the Highly Migratory Species Fishery Management Plan

Legal Authority: 16 U.S.C. 1801 et seq.; 16 U.S.C. 971 et seq.

Abstract: This rulemaking would propose management measures for dusky sharks based on the latest stock assessment, taking into consideration comments received on the proposed rule and Amendment 5 to the 2006 Consolidated Highly Migratory Species Fishery Management Plan. This rulemaking considers a range of commercial and recreational management measures in both directed and incidental shark fisheries including, among other things, gear modifications, time/area closures, permitting, shark identification requirements, and reporting requirements. NMFS determined dusky sharks are still overfished and still experiencing overfishing and originally proposed management measures to end overfishing and rebuild dusky sharks in a proposed rule for Draft Amendment 5 to the 2006 Consolidated Atlantic Highly Migratory Species Fishery Management Plan. That proposed rule also contained management measures for scalloped hammerhead, sandbar, blacknose and Gulf of Mexico blacktip sharks. NMFS decided to move forward with Draft Amendment 5's management measures for scalloped hammerhead, sandbar, blacknose and Gulf of Mexico blacktip sharks in a final rule and final amendment that will now be referred to as “Amendment 5a” to the 2006 Consolidated Atlantic Highly Migratory Species Fishery Management Plan. Dusky shark management measures will be addressed in this separate, but related, action and will be referred to as “Amendment 5b.”

Timetable:

Action | Date | FR Cite
NPRM | 10/00/16

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD22

30. Implementation of a Program for Transshipments by Large Scale Fishing Vessels in the Eastern Pacific Ocean

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. This rule is necessary for the United States to satisfy its international obligations under the 1949 Convention for the Establishment of an Inter-American Tropical Tuna, to which it is a Contracting Party.

Timetable:

Action | Date | FR Cite
NPRM | 10/00/16

Regulatory Flexibility Analysis Required: Yes.

Agency Contact: William Stelle Jr., Regional Administrator, West Coast Region, Department of Commerce, National Oceanic and Atmospheric Administration, 7600 Sand Point Way Northeast, Building 1, Seattle, WA 98115. Phone: 206 526-6150. Email: will.stelle@noaa.gov.

RIN: 0648-BD59

31. Regulatory Amendment 16 to the Fishery Management Plan for the Snapper-Grouper Fishery of the South Atlantic Region

Legal Authority: 16 U.S.C. 1801 et seq.

Abstract: Regulatory Amendment 16 contains an action to address the prohibition on the use of black sea bass pots annually from November 1 through April 30 that was implemented through Regulatory Amendment 19. The prohibition was a precautionary measure to prevent interactions between black sea bass pot gear and whales listed under the Endangered Species Act during large whale migrations and the right whale calving season off the southeastern coast. The South Atlantic Fishery Management Council, through Regulatory Amendment 16, is considering removal of the closure, changing the length of the closure, and changing the area of the closure. The goal is to minimize adverse socio-economic impacts to black sea bass pot endorsement holders while maintaining protection for Endangered Species Act-listed whales in the South Atlantic region.

Timetable:

Action | Date | FR Cite
NPRM | 07/00/16

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD78

32. Omnibus Acceptable Biological Catch Framework Adjustment

Legal Authority: 16 U.S.C. 1801 et seq.

Abstract: This action would make two administrative adjustments to the Mid-Atlantic Fishery Management Council's (Council) Omnibus Annual Catch Limit Amendment: (1) Adjust the Council's risk policy so that the Scientific and Statistical Committee may apply an average probability of overfishing when recommending multi-year Acceptable Biological Catches; and (2) make all of the Council's fishery management plans consistent in allowing new status determination criteria (overfishing definitions, etc.) to be accepted as the best available scientific information.

Timetable:

Action | Date | FR Cite
NPRM | 07/00/16

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE65

33. Modification of the Temperature-Dependent Component of the Pacific Sardine Harvest Guideline Control Rule To Incorporate New Scientific Information

Legal Authority: 16 U.S.C. 1801 et seq.

Abstract: Pursuant to a recommendation of the Pacific Fishery Management Council (Council) under the Magnuson-Stevens Act, the National Marine Fisheries Service (NMFS) is proposing to use a new temperature index to calculate the temperature parameter of the Pacific sardine harvest guideline control rule under the Fishery Management Plan. The harvest guideline control rule, in conjunction with the overfishing limit and acceptable biological catch control rules, is used to set annual harvest levels for Pacific sardine. The temperature parameter is calculated annually. NMFS determined that a new temperature index is more statistically sound and this action will adopt that index. This action also will revise the upper temperature limit to allow for additional sardine harvest where prior guidelines set catch unnecessarily low.

Timetable:

Action | Date | FR Cite
NPRM | 07/00/16

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BE77

34. Reductions in Fishing Capacity for Lobster Management Areas 2 and 3

Legal Authority: 16 U.S.C. 5101 et seq.

Abstract: This action proposes several reductions in fishing capacity for Lobster Management Areas 2 and 3. The proposed measures include: Caps on the number of traps that can be actively fished; caps on the number of traps associated with a permit (i.e., allowing trap banking); and caps on the number of traps or permits issued to a given owner. This action is intended to assist in rebuilding the Southern New England lobster stock.

Timetable:

Action | Date | FR Cite
NPRM | 07/00/16

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF01

35. Pacific Coast Groundfish Trawl Rationalization Program; Widow Rockfish Reallocation in the Individual Fishing Quota Fishery

Legal Authority: 16 U.S.C. 1801 et seq.

Abstract: In January 2011, NMFS implemented the groundfish trawl rationalization program (a catch share program) for the Pacific coast groundfish limited entry trawl fishery. The program was implemented through Amendments 20 and 21 to the Pacific Coast Groundfish Fishery Management Plan and the corresponding implementing regulations. Amendment 20 established the trawl rationalization program, which includes an Individual Fishing Quota program for limited entry trawl participants, and Amendment 21 established fixed allocations for limited entry trawl participants. During implementation of the trawl individual fishing quota program, widow rockfish was overfished and the initial allocations were based on its overfished status and management as a non-target species. NMFS declared the widow rockfish rebuilt in 2011 and, accordingly, the Pacific Fishery Management Council has now recommended actions to manage the increased abundance of widow rockfish. The action would reallocate individual fishing quota widow rockfish quota share to facilitate directed harvest and would lift the moratorium on widow rockfish quota share trading.

Timetable:

Action | Date | FR Cite
NPRM | 12/00/16

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BF12

36. Amendment 18 to the Northeast Multispecies Fishery Management Plan (Section 610 Review)

Legal Authority: 16 U.S.C. 1801 et seq.

Abstract: Amendment 18 to the Northeast Multispecies Fishery Management Plan would make necessary minor administrative adjustments to several groundfish sectors, as well as minor adjustments to fishing activity designed to protect fishery resources while maximizing flexibility and efficiency. Specifically, it would include the following management measures: Creating an accumulation limit for either the holdings of Potential Sector Contribution or of Northeast multispecies permits; creating a sub-annual catch limit that Handgear A permits could enroll in and other measures pertaining to fishing with Handgear A permits; adjusting what fishery data are considered confidential, specifically the price of annual catch entitlement transferred within a sector or leased between sectors; establishing an inshore/offshore boundary within the Gulf of Maine with associated measures, including creation of a Gulf of Maine cod sub-annual catch limit, adjusting the Gulf of Maine Gear Restricted Area boundary to align with the inshore/offshore boundary, and creating declaration time periods for fishing in the inshore or offshore areas; and establishing a Redfish Exemption Area, in which vessels could fish with a smaller mesh net than the standard mesh size, targeting redfish.

Timetable:

Action | Date | FR Cite
NPRM | 07/00/16

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF26

37. • Allow The Use of Longline Pot Gear in the Gulf of Alaska Sablefish Individual Fishing Quota Fishery

Legal Authority: 16 U.S.C. 1801 et seq.; 16 U.S.C. 773 et seq.

Abstract: This action would amend Federal regulations to allow fishermen to use longline pot gear to harvest sablefish in the Gulf of Alaska Individual Fishing Quota fishery. Hook-and-line gear is currently the only authorized gear type in the sablefish Individual Fishing Quota fishery. The action would authorize Individual Fishing Quota fishermen to use either longline pot gear or hook-and-line gear in the sablefish Individual Fishing Quota fishery. Some fishermen would like to use longline pot gear because it is less prone to whale interactions than hook-and-line gear. Whales can remove sablefish from hook-and-line gear, which reduces fishing efficiency and increases costs for sablefish Individual Fishing Quota fishermen because the whale interactions damage hook-and-line gear and reduce sablefish catch rates. However, whales cannot remove sablefish from longline pot gear, and the action to authorize longline pot gear in the sablefish Individual Fishing Quota fishery is intended to reduce fishery interactions with whales and reduce the negative impacts of whale interactions on the sablefish Individual Fishing Quota fleet. The action would establish management measures to minimize conflicts between hook-and-line and longline pot gear on the fishing grounds and to prevent significant consolidation of sablefish Individual Fishing Quota onto fewer vessels.

Timetable:

Action | Date | FR Cite
NPRM | 07/00/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF42

38. • Atlantic Highly Migratory Species; Atlantic Blacknose Shark Commercial Retention Limit

Legal Authority: 16 U.S.C. 1801 et seq.; 16 U.S.C. 971 et seq.

Abstract: This rule would evaluate the management measures for blacknose sharks in the Atlantic region. It would consider, among other things, a range of commercial management measures in both directed and incidental shark fisheries including, but not limited to, retention limits. In addition, this action would address commercial retention limits to help prevent early closures of the non-blacknose small coastal shark management group and fully utilize the quota.

Timetable:

Action | Date | FR Cite
NPRM | 09/00/16 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BF49

39. • Amendment 113 to the FMP for Groundfish of the BSAI Management Area to Establish a Catcher Vessel Fishing Period and Shoreside Processing Delivery Requirements for Aleutian Islands Pacific Cod

Legal Authority: 16 U.S.C. 1801 et seq.

Abstract: This rule would restrict participation in the Aleutian Islands Pacific cod fishery. This action is necessary to provide stability to catcher vessels that participate in the Aleutian Islands Pacific cod fishery and the shoreside processors to which they deliver, and to the communities in which these processors are located. Specifically, this rule would establish catch limits for Pacific cod in the Aleutian Islands and the Bering Sea. The revised allocation is intended to provide catcher vessels with a sufficient opportunity to harvest Pacific cod in an inshore fishery by restricting participation in the fisheries by catcher processors that can harvest significantly larger volumes of Pacific cod further offshore. This rule may include provisions to relieve the restrictions on catcher processor participation if catcher vessels would not be able to harvest the allocation or Aleutian Islands shoreside processors would not be able to process catcher vessel harvests of Pacific cod.

Timetable:

Action | Date | FR Cite
NPRM | 07/00/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF54

40. • Regulatory Amendment 25 to the Fishery Management Plan for the Snapper-Grouper Fishery of the South Atlantic Region

Legal Authority: 16 U.S.C. 1801 et seq.

Abstract: This rule proposes management changes recommended by the South Atlantic Fishery Management Council to blueline tilefish, yellowtail snapper, and black sea bass in the South Atlantic Region. This rule would increase the annual catch limit and optimum yield for blueline tilefish based on a new acceptable biological catch recommendation from the South Atlantic Council's Scientific and Statistical Committee. This action also proposes an increase to the current commercial trip limit and changing the recreational bag limit for blueline tilefish. Currently, the fishing year for yellowtail snapper is based on the calendar year. This rule proposes a summer/early fall start date of the fishing year to protect the yellowtail snapper stock during the spawning season and provide economic benefits for commercial fishermen. Lastly, this rule proposes an increase to the black sea bass recreational bag limit to increase the chance the recreational annual catch limit will be landed and ensure that optimum yield is being achieved.

Timetable:

Action | Date | FR Cite
NPRM | 08/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF61

41. • Specification of Management Measures for Atlantic Herring for the 2016-2018 Fishing Years

Legal Authority: 16 U.S.C. 1801 et seq.

Abstract: The Atlantic herring fishery specifications are annual catch amounts for the 2016-2018 fishing years, January-December. These specifications are required by regulation to be set for 3 years. If implemented, these specifications will change the current catch limit levels and will continue to prevent overfishing of the herring resource and achieve optimum yield. The catch limits established in these specifications set a constant catch amount available to the industry that provides a stable allowable catch for 3-year business planning purposes. In addition, the specifications add catch that was not caught under last year's catch limit for one management area and reduce catch that exceeded the catch limits set in other management areas. Finally, the specifications set annual gear-specific and area-specific catch caps for river herring and shad, consistent with Framework Adjustment 3 to the Atlantic Herring Fishery Management Plan.

Timetable:

Action | Date | FR Cite
NPRM | 07/00/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF64

42. • Amendment 19 to the Atlantic Sea Scallop Fishery Management Plan (FMP)

Legal Authority: 16 U.S.C. 1801 et seq.

Abstract: Amendment 19 would incorporate a specifications process into the Atlantic Sea Scallop Fishery Management Plan and change the start of the fishing year. Developing specifications to set annual or biennial allocations will allow for a more efficient process for setting annual allocations than currently possible through framework adjustments. By adjusting the start of the scallop fishing year, NMFS would be able to implement simple specifications actions at the start of the fishing year on a more consistent basis.

Timetable:

Action | Date | FR Cite
NPRM | 07/00/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF72

43. • Amendment 17A to the Fishery Management Plan for the Shrimp Fishery of the Gulf of Mexico, U.S. Waters

Legal Authority: 16 U.S.C. 1801 et seq.

Abstract: This rule would implement the Gulf of Mexico Fishery Management Council's decision to extend the Council-imposed moratorium on new federal commercial shrimp permits for 10 years. The moratorium began in 2006 and will expire in 2016 if no action is taken. This action is necessary to protect federally managed Gulf of Mexico shrimp stocks while promoting catch efficiency, economic efficiency and stability.

Timetable:

Action | Date | FR Cite
NPRM | 07/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF77

44. • Framework Amendment 1 to the Dolphin and Wahoo Fishery Management Plan of the Atlantic

Legal Authority: 16 U.S.C. 1801 et seq.

Abstract: Dolphin Wahoo 1 would establish a commercial trip limit after a specified percentage of the commercial sector annual catch limit has been reached and would continue until the end of the fishing year or until the entire commercial annual catch limit is met, whichever comes first.

Timetable:

Action | Date | FR Cite
NPRM | 07/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF81

45. • Omnibus Essential Fish Habitat Amendment 2

Legal Authority: 16 U.S.C. 1801 et seq.

Abstract: This rulemaking would update the essential fish habitat and habitat areas of particular concern designation for all of the New England Fishery Management Council's managed species. This rule will also propose revisions to the system of habitat management areas, update groundfish seasonal spawning closures, and establish Dedicated Habitat Research Areas.

Timetable:

Action | Date | FR Cite
NPRM | 11/00/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF82

46. • Amendment 103 to the Fishery Management Plan for Groundfish of the Gulf of Alaska To Reapportion Chinook Salmon Prohibited Catch in the Gulf of Alaska Trawl Fisheries

Legal Authority: 16 U.S.C. 1801 et seq.; 16 U.S.C. 3631 et seq.; 16 U.S.C. 773 et seq.; Pub. L. 08-199

Abstract: This action would allow NMFS to reapportion unused Chinook salmon prohibited species catch within and between trawl sectors in the Gulf of Alaska groundfish fisheries to reduce the potential for early fishery closures. Amendments 93 and 97 to the Fishery Management Plan for Groundfish of the Gulf of Alaska and implementing regulations established Chinook salmon prohibited species catch limits for pollock and non-pollock trawl fisheries. If a sector reaches a prohibited species catch limit, the fishery is closed for the remainder of the fishing year currently, the fishery management plan and regulations do not allow NMFS to reapportion unused Chinook salmon prohibited species catch among trawl sectors. Specifically, this action would: Allow NMFS to reapportion remaining Chinook salmon prohibited species catch among trawl catcher vessel sectors and from the trawl catcher/processor sector to trawl catcher vessel sectors based on criteria established for inseason reapportionments and within specified limits; increase management flexibility without exceeding the current overall 32,500 Chinook salmon prohibited species catch limit or negating the current prohibited species catch limits under Amendments 93 and 97; and increase the likelihood that groundfish resources are more fully harvested, and minimize the adverse socioeconomic impacts of the fishery closures on harvesters, processors, and communities.

Timetable:

Action | Date | FR Cite
NPRM | 07/00/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF84

47. • Framework Adjustment 3 to the Northeast Skate Complex Fishery Management Plan

Legal Authority: 16 U.S.C. 1801 et seq.

Abstract: This action, developed by the New England Fishery Management Council, includes skate fishery specifications for the 2016-2017 fishing years, and a new seasonal quota allocation in the skate wing fishery. In summary, the Council proposes: An annual catch limit for skate of 31,081 metric tons, an overall total allowable landings of 12,590 metric tons, status quo possession limits for the skate wing and bait fisheries, the addition of a seasonal quota allocation, and NMFS authority to close the fishery in-season if the seasonal quota is reached.

Timetable:

Action | Date | FR Cite
NPRM | 10/00/16 |

Regulatory Flexibility Analysis Required: No.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF87

48. • 2016-2018 Spiny Dogfish Fishery Specifications

Legal Authority: 16 U.S.C. 1801 et seq.

Abstract: The proposed action includes spiny dogfish fishery specifications for the 2016-2018 fishing years, as recommended by the Mid-Atlantic and New England Fishery Management Councils. In summary, the Councils propose: spiny dogfish annual catch limits of 51.9 million lb for 2016, 50.7 million lb for 2017, and 49.8 million lb for 2018 (decreases from 62.3 million lb in 2015); coastwide commercial quotas of 40.4 million lb for 2016, 39.1 million lb for 2017, and 38.2 million lb for 2018 (decreases from 50.6 million lb in 2015); and spiny dogfish trip limits of 5,000 lb (status quo).

Timetable:

Action | Date | FR Cite
NPRM | 07/00/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF88

49. • 2016 Summer Flounder, Scup, and Black Sea Bass Recreational Harvest Measures (Section 610 Review)

Legal Authority: 16 U.S.C. 1801 et seq.

Abstract: This rule would propose management measures such as recreational possession limits, minimum fish sizes, and seasonal closures to achieve recreational harvest limits for the 2016 summer flounder, scup, and black sea bass recreational fisheries. The recreational harvest limits for these species have been established in a separate rulemaking. This rule proposes the management measures the Council has recommended to help ensure recreational harvest is constrained to those harvest limits. This rule will also propose modifications to the commercial scup incidental possession limits to more closely align with the current conditions of the fishery.

Timetable:

Action | Date | FR Cite
NPRM | 07/00/16 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF89

DEPARTMENT OF COMMERCE (DOC)

National Oceanic and Atmospheric Administration (NOAA)

Final Rule Stage

National Marine Fisheries Service

50. Amendment 7 to the 2006 Consolidated Highly Migratory Species Fishery Management Plan

Legal Authority: 16 U.S.C. 1801 et seq.; 16 U.S.C. 971 et seq.

Abstract: Amendment 7 focused on bluefin tuna fishery management issues consistent with the need to end overfishing and rebuild the stock. Measures in Amendment 7 addressed several of the longstanding challenges facing the fishery and analyzed, among other things, revisiting quota allocations; reducing and accounting for dead discards; adding or modifying time/area closures or gear-restricted areas; and improving the reporting and monitoring of dead discards and landings in all categories.

Timetable:

Action | Date | FR Cite
Notice | 04/23/12 | 77 FR 24161
Notice | 06/08/12 | 77 FR 34025
NPRM | 08/21/13 | 78 FR 52032
NPRM Comment Period Extended | 09/18/13 | 78 FR 57340
Public Hearing | 11/05/13 | 78 FR 66327
NPRM Comment Period Reopened | 12/11/13 | 78 FR 75327
Public Hearing | 12/26/13 | 78 FR 78322
Final Rule | 12/02/14 | 79 FR 71509
Notice of Public Webinars | 12/16/14 | 79 FR 74652
Final Rule | 12/30/14 | 79 FR 78310
Final Rule | 02/04/15 | 80 FR 5991
Final Rule Effective | 02/04/15 |
Notice | 05/07/15 | 80 FR 26196
Final Action—Next Stage Undetermined | 12/00/16 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BC09

51. Amendment 39 to the Fishery Management Plan for the Reef Fish Resources of the Gulf of Mexico

Legal Authority: 16 U.S.C. 1801 et seq.

Abstract: The purpose of this action is to facilitate management of the recreational red snapper component in the reef fish fishery by reorganizing the federal fishery management strategy to better account for biological, social, and economic differences among the regions of the Gulf of Mexico. Regional management would enable regions and their associated communities to specify the optimal management parameters that best meet the needs of their local constituents thereby addressing regional socio-economic concerns.

Timetable:

Action | Date | FR Cite
Notice | 05/13/13 | 78 FR 27956
Next Stage Undetermined | 12/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD25

52. Amendment 28 to the Fishery Management Plan for the Reef Fish Resources of the Gulf of Mexico (Section 610 Review)

Legal Authority: 16 U.S.C. 1801 et seq.

Abstract: NMFS proposed to implement management measures as requested by the Gulf of Mexico Fishery Management Council in Amendment 28 to the Fishery Management Plan for the Reef Fish Resources of the Gulf of Mexico. The Council voted to reallocate the Gulf of Mexico (Gulf) 2016 and 2017 red snapper stock annual catch limit between the commercial and recreational sectors from 51:49 percent to 48.5:51.5 percent, respectively. As a result of the revised sector allocations proposed in Amendment 28, this rule would revise the red snapper commercial and recreational quotas (which are equivalent to the annual catch limits) and the recreational annual catch targets. This rule would also set the Federal charter vessel/headboat and private angling component quotas and annual catch targets based on the revised recreational sectors annual catch limit and annual catch target.

Timetable:

Action | Date | FR Cite
Notice | 12/24/15 | 80 FR 80310
NPRM | 01/25/16 | 81 FR 4010
NPRM Comment Period End | 03/10/16 |
Final Action | 07/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD68

53. Amendment 35 to the Fishery Management Plan for the Snapper Grouper Fishery of the South Atlantic Region

Legal Authority: 16 U.S.C. 1801 et seq.

Abstract: Amendment 35 would consider removing black snapper, dog snapper, mahogany snapper, and schoolmaster from the Fishery Management Plan for the Snapper-Grouper Fishery of the South Atlantic Region because these species have extremely low commercial landings in state and Federal waters. Almost all harvest (recreational and commercial) occurs in South Florida, and the Florida Fish and Wildlife Conservation Commission has agreed that if the four species are removed from the Fishery Management Plan for the Snapper-Grouper Fishery of the South Atlantic Region they will extend state regulations for those species into Federal waters. Additionally, the South Atlantic Fishery Management Council (Council) desires consistent regulations for snapper-grouper species caught primarily in South Florida. Removing the four subject species would establish a consistent regulatory environment in Federal and state waters off southern Florida where they are most frequently encountered. Amendment 35 would also clarify, in accordance with the Council's intent, regulations governing use of golden tilefish longline endorsements.

Timetable:

Action | Date | FR Cite
Notice | 02/05/16 | 81 FR 6222
NPRM | 03/04/16 | 81 FR 11502
NPRM Comment Period End | 04/04/16 |
Final Action | 07/00/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE70

54. Pacific Coast Groundfish Fishing Capacity Reduction Loan Refinance (Section 610 Review)

Legal Authority: 16 U.S.C. 1801 et seq.; 16 U.S.C. 1861 et seq.; 5 U.S.C. 561 et seq.

Abstract: The National Marine Fisheries Service (NMFS) issued proposed regulations to refinance the voluntary fishing capacity reduction loan program implemented in 2004 in the Pacific Coast groundfish Federal limited-entry trawl, Washington coastal Dungeness crab, and California pink shrimp fisheries (collectively known hereafter as the refinanced reduction fisheries). The refinance loan of up to $30 million could establish a new industry fee system for future landings of the refinanced reduction fisheries. Upon publishing a final rule and receipt of an appropriation, NMFS would conduct three referenda to refinance the existing debt obligation in each of the refinanced reduction fisheries. If a referendum in one, two, or all three of the fisheries is successful, that fishery's current loan will be repaid in full and a new loan in the amount of the principal and interest balance as of the date of funding will be issued. The terms were prescribed in the 2015 National Defense Authorization Act and include a 45-year term to maturity, interest charged at a current Treasury interest rate, and a maximum repayment fee of 3 percent of ex-vessel value.

Timetable:

Action | Date | FR Cite
NPRM | 08/07/15 | 80 FR 46941
NPRM Comment Period End | 09/08/15 |
Final Action | 12/00/16 |

Regulatory Flexibility Analysis Required: Yes.

Agency Contact: Brian Pawlak, Department of Commerce, National Oceanic and Atmospheric Administration, 1315 East-West Highway, Silver Spring, MD 20910, Phone: 301 427-8621, Email: brian.t.pawlak@noaa.gov.

RIN: 0648-BE90

55. Amendment 109 to the Fishery Management Plan for Groundfish of the Bsai To Facilitate Development of Groundfish Fisheries for Small Vessels in the Western Alaska Community Development Quota Program

Legal Authority: 16 U.S.C. 1801 et seq.

Abstract: This action would amend the Fishery Management Plan for Groundfish of the Bering Sea and Aleutian Islands Management Area and revise regulations governing the groundfish and halibut fisheries managed under the Western Alaska Community Development Quota Program in order to support increased participation in the groundfish Community Development Quota fisheries (primarily Pacific cod) by catcher vessels less than or equal to 46 feet (14.0 m) length overall using hook-and-line gear. This action is necessary to promote the goals of the Community Development Quota Program, to increase participation by residents of Community Development Quota communities in the Bering Sea and Aleutian Islands Management Area groundfish and halibut fisheries, and to support economic development in western Alaska. This action would benefit the six Community Development Quota groups and the operators of the small catcher vessels that the Community Development Quota groups authorize to fish on their behalf by reducing the costs of participating in the groundfish and halibut Community Development Quota fisheries.

Timetable:

Action | Date | FR Cite
Notice | 01/21/16 | 81 FR 3374
NPRM | 02/08/16 | 81 FR 6489
NPRM Comment Period End | 03/09/16 |
Final Action | 07/00/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF05

56. Magnuson-Stevens Fisheries Conservation and Management Act; Seafood Import Monitoring Program

Legal Authority: 16 U.S.C. 1857

Abstract: On March 15, 2015, the Presidential Task Force on Combating Illegal, Unreported, and Unregulated Fishing and Seafood Fraud (Task Force), co-chaired by the Departments of Commerce and State, published its action plan to implement Task Force recommendations for a comprehensive framework of integrated programs to combat illegal, unreported, and unregulated fishing and seafood fraud. The plan identifies actions that will strengthen enforcement, create and expand partnerships with state and local governments, industry, and non-governmental organizations, and create a traceability program to track seafood from harvest to entry into U.S. commerce, including the use of existing traceability mechanisms. As part of that plan, NMFS proposes regulatory changes to improve the administration of the MSA prohibition on the entry into interstate or foreign commerce of any fish taken in violation of any foreign law or regulation. The rule includes adjustments to permitting and reporting requirements to provide for traceability of seafood products offered for entry into the U.S. supply chain, and to ensure that these products were lawfully acquired and are properly labeled. Requirements for an international trade permit and reporting on the origin of certain imported or exported fishery products were previously established by regulations applicable to a number of specified fishery products. This rulemaking would extend those existing permitting and reporting requirements to additional fish species and seafood products.

Timetable:

Action | Date | FR Cite
NPRM | 02/05/16 | 81 FR 6210
NPRM Comment Period End | 04/05/16 |
Final Action | 08/00/16 |

Regulatory Flexibility Analysis Required: Yes.

Agency Contact: John Henderschedt, Director, Office for International Affairs and Seafood Inspection, Department of Commerce, National Oceanic and Atmospheric Administration, 1315 East West Highway, Room 10362, Silver Spring, MD 20910, Phone: 301 427-8314, Email: john.henderschedt@noaa.gov.

RIN: 0648-BF09

57. Process for Divestiture of Excess Quota Shares (Section 610 Review)

Legal Authority: 16 U.S.C. 1801 et seq.

Abstract: In January 2011, the National Marine Fisheries Service implemented the groundfish trawl rationalization program (a catch share program) for the Pacific coast groundfish limited entry trawl fishery. The program was implemented through Amendments 20 and 21 to the Pacific Coast Groundfish Fishery Management Plan and the corresponding implementing regulations. Amendment 20 established the trawl rationalization program, which includes an Individual Fishing Quota program for limited entry trawl participants, and Amendment 21 established fixed allocations for limited entry trawl participants, with limits on how much quota each participant can accumulate. Under current regulations, quota share owners must divest quota shareholdings that exceed individual accumulation limits by November 30, 2015. This action makes minor procedural modifications to the program regulations to clarify how divestiture of excess quota share could occur.

Timetable:

Action | Date | FR Cite
NPRM | 09/02/15 | 80 FR 53088
NPRM Comment Period End | 10/02/15
Final Rule Effective | 11/04/15
Final Rule | 11/10/15 | 80 FR 69138
Final Action | 10/00/16

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BF11

58. Implementation of Salmon Bycatch Management Measures for the Bering Sea Pollock Fishery

Legal Authority: 16 U.S.C. 1801 et seq.

Abstract: Regulatory Amendment 110 would make substantive changes to the management of salmon bycatch in the Bering Sea pollock fishery to minimize salmon bycatch in the pollock fishery to the extent practicable. Currently, Chinook and chum salmon bycatch are managed under two different programs, which have led to inefficiencies and do not allow the pollock fishery the flexibility to modify their harvest patterns and practices to effectively minimize both Chinook and chum salmon bycatch. This regulation would make salmon bycatch management more effective, comprehensive, and efficient by increasing flexibility to respond to changing conditions and providing greater incentives to reduce bycatch of both salmon species. This regulation would provide the flexibility to harvest pollock in times and places that best achieve salmon avoidance and to adapt to changing conditions quickly.

Timetable:

Action | Date | FR Cite
Notice | 01/08/16 | 81 FR 897
NPRM | 02/03/16 | 81 FR 5681
NPRM Comment Period End | 03/04/16
Final Action | 07/00/16

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF25

59. • Cost Recovery Authorized Payment Methods

Legal Authority: 16 U.S.C. 1862; 16 U.S.C. 773; Pub. L. 108-447; Pub. L. 109-241; Pub. L. 109-479; Pub. L. 111-281

Abstract: This rule would amend authorized payment methods in existing cost recovery fee programs for the halibut, sablefish, and crab catch share programs. The Magnuson-Stevens Fishery Conservation and Management Act authorizes and requires the collection of cost recovery fees for fishery management programs that issue a permit allocating exclusive harvest privileges. Cost recovery fees recover the actual costs directly related to the management, data collection, and enforcement of the programs. Permit holders are required to submit cost recovery fee payments to NMFS annually. NMFS undertook a security review of the cost recovery fee payment process and developed the rule to improve security procedures for protecting sensitive financial information and to reduce costs associated with administering the cost recovery programs. The proposed rule eliminated manual processing of credit card information and required use of the Federal government's online payment system, pay.gov, for permit holders paying by credit card. The proposed rule also eliminated payments by paper check or money order and require the use of pay.gov beginning in 2020. The rule is expected to reduce the administrative costs of processing fee payments, and this reduction in costs would reduce the total amount of cost recovery fees collected from participants in the halibut, sablefish, and crab catch share programs.

Timetable:

Action | Date | FR Cite
NPRM | 12/31/15 | 80 FR 81798
NPRM Comment Period End | 02/01/16
Final Action | 07/00/16

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF35

60. • Amendment 102 to the Fishery Management Plan for Groundfish of the Gulf of Alaska

Legal Authority: 16 U.S.C. 1801 et seq.

Abstract: This rule would modify the basis for NMFS to place small catcher/processors in partial coverage in the North Pacific Groundfish and Halibut Observer Program (Observer Program). Under this action, NMFS would classify a catcher/processor as small and eligible for partial coverage for one year based on whether the catcher/processor had an average weekly production less than a specified threshold. This action would decrease the cost of observer coverage for catcher/processors that process small amounts of groundfish relative to the rest of the fleet. Approximately nine vessels could be affected by this action and we expect all newly qualified vessels would choose to participate in partial coverage for the upcoming fishing year.

Timetable:

Action | Date | FR Cite
Notice | 12/17/15 | 80 FR 78705
NPRM | 12/29/15 | 80 FR 81262
Correction | 01/22/16 | 81 FR 3775
NPRM Comment Period End | 01/28/16
Final Action | 07/00/16

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BF36

61. • 2016-2018 Specifications and Management Measures for the Atlantic Mackerel, Squid, and Butterfish Fishery Management Plan

Legal Authority: 16 U.S.C. 1801 et seq.

Abstract: This action establishes catch levels and associated management measures for the 2016-2018 fishing years for species managed under the Atlantic Mackerel, Squid, and Butterfish Fishery Management Plan. The proposed rule: Lowered the Atlantic mackerel quota by 56 percent to 9,177 metric tons (mt) for the next three years; lowered the cap on river herring and shad catch in the mackerel fishery from 89 mt to 82 mt for the next three years; increased the trigger for when 3-inch mesh is required for longfin squid-butterfish moratorium permits holders from 2,500 lb to 5,000 lb; clarified that 5-inch (square or diamond) or greater strengtheners may be used outside the 3-inch mesh to avoid breaking nets during large hauls; and suspended the pre-trip notification system requirement for longfin squid-butterfish moratorium permit holders.

Timetable:

Action | Date | FR Cite
NPRM | 01/22/16 | 81 FR 3768
NPRM Comment Period End | 02/22/16
Final Action | 07/00/16

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF53

62. • Framework Adjustment 27 to the Atlantic Sea Scallop Fishery Management Plan

Legal Authority: 16 U.S.C. 1801 et seq.

Abstract: The purpose of Framework 27 is to set management measures for the scallop fishery for the 2016 fishing year, including the annual catch limits and annual catch targets for the limited access and limited access general category fleets, as well as days-at-sea allocations and sea scallop access area trip allocations. Allocations in the proposed rule were similar to or slightly higher than previous years. In addition, Framework 27 would implement additional measures to protect small scallops for future harvest.

Timetable:

Action | Date | FR Cite
NPRM | 02/24/16 | 81 FR 9151
NPRM Comment Period End | 03/25/16
Final Action | 07/00/16

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BF59

63. • Revisions to the Pacific Halibut Catch Sharing Plan, Codified Regulations, and Annual Management Measures for 2016 and Beyond

Legal Authority: 16 U.S.C. 773 et seq.

Abstract: This action is NMFS annual rulemaking regarding halibut fishing on the U.S. West Coast, implementing the Pacific Halibut Catch Sharing Plan (Plan). The Plan governs the allocation of the annual halibut quota for the West Coast fisheries, which is set by the International Pacific Halibut Commission and approved by NOAA Fisheries. For 2016 and beyond, the Pacific Fishery Management Council has recommended several minor changes to the portion of the Plan covering sport fishery seasons and retention rules; and modifications to the processes for implementing inseason actions and sport fishery closures.

Timetable:

Action | Date | FR Cite
NPRM | 02/19/16 | 81 FR 8466
NPRM Comment Period End | 03/10/16
Final Action | 07/00/16

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BF60

64. • Framework Action To Modify the Gag Minimum Size Limits, Recreational Season, and Black Grouper Minimum Size Limits in the Gulf of Mexico (Section 610 Review)

Legal Authority: 16 U.S.C. 1801 et seq.

Abstract: The proposed framework action modified the recreational minimum size limit for gag and black grouper from 22 inches total length (inches) to 24 inches. Additionally, the proposed action modified the gag recreational fishing season from July 1 through December 2, to June 1 through December 31. The intent is to extend the recreational fishing season.

Timetable:

Action | Date | FR Cite
NPRM | 03/03/16 | 81 FR 11166
NPRM Comment Period End | 04/04/16
Final Action | 07/00/16

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF70

DEPARTMENT OF COMMERCE (DOC)

National Oceanic and Atmospheric Administration (NOAA)

Long-Term Actions

National Marine Fisheries Service

65. Comprehensive Fishery Management Plan for Puerto Rico

Legal Authority: 16 U.S.C. 1801 et seq.

Abstract: This comprehensive Puerto Rico Fishery Management Plan will incorporate, and modify as needed, federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. If approved, this new Puerto Rico Fishery Management Plan, in conjunction with similar comprehensive Fishery Management Plans being developed for St. Croix and St. Thomas/St. John, will replace the Spiny Lobster, Reef Fish, Coral and Queen Conch Fishery Management Plans presently governing the commercial and recreational harvest in U.S. Caribbean exclusive economic zone waters.

Timetable:

Action | Date | FR Cite
NPRM | 09/00/17

Regulatory Flexibility Analysis Required: Yes.

Agency Contact: Roy E. Crabtree, Phone: 727 824-5305, Fax: 727 824-5308, Email: roy.crabtree@noaa.gov.

RIN: 0648-BD32

66. Comprehensive Fishery Management Plan for St. Croix

Legal Authority: 16 U.S.C. 1801 et seq.

Abstract: This comprehensive St. Croix Fishery Management Plan will incorporate, and modify as needed, federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. If approved, this new St. Croix Fishery Management Plan, in conjunction with similar comprehensive Fishery Management Plans being developed for Puerto Rico and St. Thomas/St. John, will replace the Spiny Lobster, Reef Fish, Coral and Queen Conch Fishery Management Plans presently governing the commercial and recreational harvest in U.S. Caribbean exclusive economic zone waters.

Timetable:

Action | Date | FR Cite
NPRM | 09/00/17

Regulatory Flexibility Analysis Required: Yes.

Agency Contact: Roy E. Crabtree, Phone: 727 824-5305, Fax: 727 824-5308, Email: roy.crabtree@noaa.gov.

RIN: 0648-BD33

67. Comprehensive Fishery Management Plan for St. Thomas/St. John

Legal Authority: 16 U.S.C. 1801 et seq.

Abstract: This comprehensive St. Thomas/St. John Fishery Management Plan will incorporate, and modify as needed, federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. If approved, this new St. Thomas/St. John Fishery Management Plan, in conjunction with similar comprehensive Fishery Management Plans being developed for St. Croix and Puerto Rico, will replace the Spiny Lobster, Reef Fish, Coral and Queen Conch Fishery Management Plans presently governing the commercial and recreational harvest in U.S. Caribbean exclusive economic zone waters.

Timetable:

Action | Date | FR Cite
NPRM | 09/00/17

Regulatory Flexibility Analysis Required: Yes.

Agency Contact: Roy E. Crabtree, Phone: 727 824-5305, Fax: 727 824-5308, Email: roy.crabtree@noaa.gov.

RIN: 0648-BD34

68. Designate Critical Habitat for the Hawaiian Insular False Killer Whale Distinct Population Segment

Legal Authority: 16 U.S.C. 1531 et seq.

Abstract: This action would designate critical habitat for the Hawaiian insular false killer whale distinct population segment, pursuant to section 4 of the Endangered Species Act. Proposed critical habitat would be designated in the main Hawaiian islands.

Timetable:

Action | Date | FR Cite
NPRM | 04/00/18

Regulatory Flexibility Analysis Required: Yes.

Agency Contact: Donna Wieting, Phone: 301 427-8400.

RIN: 0648-BC45

69. Designation of Critical Habitat for the Arctic Ringed Seal

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The critical habitat designation would be in the northern Bering, Chukchi, and Beaufort seas within the current range of the species.

Timetable:

Action | Date | FR Cite
NPRM | 12/03/14 | 79 FR 71714
Proposed Rule | 12/09/14 | 79 FR 73010
Notice of Public Hearings | 01/13/15 | 80 FR 1618
Comment Period Extended | 02/02/15 | 80 FR 5498
Final Action | To Be Determined

Regulatory Flexibility Analysis Required: Yes.

Agency Contact: Donna Wieting, Phone: 301 427-8400.

RIN: 0648-BC56

DEPARTMENT OF COMMERCE (DOC)

National Oceanic and Atmospheric Administration (NOAA)

Completed Actions

70. Fishery Management Plan for Regulating Offshore Marine Aquaculture in the Gulf of Mexico

Legal Authority: 16 U.S.C. 1801 et seq.

Abstract: The purpose of this fishery management plan was to develop a regional permitting process for regulating and promoting environmentally sound and economically sustainable aquaculture in the Gulf of Mexico exclusive economic zone. This fishery management plan consisted of ten actions, each with an associated range of management alternatives, which will facilitate the permitting of an estimated 5 to 20 offshore aquaculture operations in the Gulf of Mexico over the next 10 years, with an estimated maximum annual production of up to 64 million pounds. By establishing a regional permitting process for aquaculture, the Gulf of Mexico Fishery Management Council will be positioned to achieve their primary goal of increasing maximum sustainable yield and optimum yield of federal fisheries in the Gulf of Mexico by supplementing harvest of wild caught species with cultured product. This rulemaking outlined a regulatory permitting process for aquaculture in the Gulf of Mexico, including: (1) Required permits; (2) duration of permits; (3) species allowed; (4) designation of sites for aquaculture; (5) reporting requirements; and (6) regulations to aid in enforcement.

Timetable:

Action | Date | FR Cite
Notice of Availability | 06/04/09 | 74 FR 26829
NPRM | 08/28/14 | 79 FR 26829
NPRM Comment Period Reopened | 11/13/14 | 79 FR 67411
Final Action | 01/13/16 | 81 FR 1761
Final Action Effective | 02/12/16

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-AS65

71. Atlantic Highly Migratory Species; Future of the Atlantic Shark Fishery

Legal Authority: 16 U.S.C. 1801 et seq.; 16 U.S.C. 971 et seq.

Abstract: The National Marine Fisheries Service adjusted the regulations governing the U.S. Atlantic shark fishery to address current fishery issues and identify specific shark fishery goals for the future. This action considered potential changes to the quota and/or permit structure that are currently in place for the Atlantic shark fishery, and various catch share programs such as limited access privilege programs, individual fishing quotas, and sectors for the Atlantic shark fishery.

Timetable:

Action | Date | FR Cite
ANPRM | 09/20/10 | 75 FR 57235
ANPRM Comment Period End | 01/14/11
Notice | 05/27/14 | 79 FR 30064
NPRM | 01/20/15 | 80 FR 2648
Notice | 03/09/15 | 80 FR 12394
Final Action | 08/18/15 | 80 FR 50073
Final Action Effective | 08/18/15

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BA17

72. Implement the 2010 Shark Conservation Act Provisions and Other Regulations in the Atlantic Smoothhound Shark Fishery

Legal Authority: 16 U.S.C. 1801 et seq.

Abstract: This rule implemented Amendment 9 to the Atlantic shark and smoothhound shark fisheries and the measures in Amendment 3 and the 2011 Highly Migratory Species trawl rule in the Atlantic smoothhound shark fishery. The rule fully implemented smoothhound shark quota measures as well as the Savings Clause of the Shark Conservation Act. The Shark Conservation Act included a provision that allows, under specific conditions, smooth dogfish sharks to be landed without fins attached (versus the Shark Conservation Act as a whole that requires sharks to be landed with fins naturally attached). The final rule balanced this statutory provision that provides operating flexibility for smooth dogfish fisherman with the need to ensure effective shark conservation and management. The rule also made changes to the shark gillnet vessel monitoring system requirement to aid the industry by limiting the scope of vessel monitoring systems.

Timetable:

Action | Date | FR Cite
NPRM | 08/07/14 | 79 FR 46217
NPRM Comment Period End | 11/14/14
Final Action | 11/24/15 | 80 FR 73128
Final Rule | 12/18/15 | 80 FR 78969
Final Action Effective | 03/15/16

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BB02

73. Implementation of the Inter-American Tropical Tuna Commission Resolution To Establish a Vessel Monitoring System Program in the Eastern Pacific Ocean

Legal Authority: 16 U.S.C. 1801 et seq.; 16 U.S.C. 951 et seq.

Abstract: This rule implemented the Inter-American Tropical Tuna Commission's Resolution intended to require owners and operators of tuna-fishing vessels to have installed, activate, carry and operate vessel monitoring system units (also known as mobile transmitting units). This regulation applies to owners and operators of tuna-fishing vessels 24 meters or more in length operating in the eastern Pacific Ocean. The vessel monitoring system units have to be type-approved and authorize the Inter-American Tropical Tuna Commission and National Marine Fisheries Service to receive and relay transmissions (also called position reports) from the vessel monitoring system unit. Vessel monitoring systems may enhance the safety of some vessels by allowing the vessels location to be tracked, which could assist in rescue efforts. This regulation applies to commercial vessels only and not recreational or charter vessels.

Timetable:

Action | Date | FR Cite
NPRM | 02/06/14 | 79 FR 7152
Correction | 02/25/14 | 79 FR 10465
Proposed Rule | 05/19/15 | 80 FR 28572
Comment Period End | 06/18/15
Final Action | 10/07/15 | 80 FR 60533
Final Action Effective | 01/01/16

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BD54

74. Amendment 7 to the FMP for the Dolphin Wahoo Fishery of the Atlantic and Amendment 33 to the FMP for the Snapper-Grouper Fishery of the South Atlantic

Legal Authority: 16 U.S.C. 1801 et seq.

Abstract: Dolphin Wahoo Amendment 7 and Snapper-Grouper Amendment 33 allows recreational fishermen to bring dolphin and wahoo fillets from The Bahamas into the U.S. waters and updated regulations that currently allow recreational fishermen to bring snapper-grouper fillets from the Bahamas into U.S. waters.

Timetable:

Action | Date | FR Cite
Notice | 09/17/15 | 80 FR 55819
NPRM | 10/07/15 | 80 FR 60601
NPRM Comment Period End | 11/06/15 |
Final Action | 12/28/15 | 80 FR 80686
Final Action Effective | 01/27/16 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD76

75. Amendment 8 to the Fishery Management Plan for Coral, Coral Reefs, and Live/Hard Bottom Habitats of the South Atlantic Region

Legal Authority: 16 U.S.C. 1801 et seq.

Abstract: Coral Amendment 8 modified the boundaries of the Oculina Bank Habitat Area of Particular Concern, the Stetson-Miami Terrace Coral Habitat Area of Particular Concern, and the Cape Lookout Coral Habitat Area of Particular Concern to protect deepwater coral ecosystems. The amendment also implemented a transit provision through the Oculina Bank Habitat Area of Particular Concern for fishing vessels with rock shrimp onboard.

Timetable:

Action | Date | FR Cite
Notice | 05/20/14 | 79 FR 28880
NPRM | 06/03/14 | 79 FR 31907
Correction | 07/01/14 | 79 FR 37269
Final Rule | 07/17/15 | 80 FR 42423
Final Rule Correction | 08/04/15 | 80 FR 46205
Final Rule Effective | 08/17/15 |
Final Rule Correction | 10/07/15 | 80 FR 60565
Final Rule Effective | 10/07/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD81

76. Cost Recovery From Amendment 80, CDQ Groundfish and Halibut, American Fisheries Act and Aleutian Islands Pollock, and the Freezer Longline Coalition Pacific Cod Fisheries Management Programs

Legal Authority: 16 U.S.C. 1801 et seq.; Pub. L. 109-241; Pub. L. 109-479

Abstract: The National Marine Fisheries Service implemented a limited access permit program cost recovery fee for Amendment 80, Western Alaska Community Development Quota groundfish and halibut, American Fisheries Act and Aleutian Islands Pollock, and the Pacific Cod Freezer Longline Coalition fisheries management programs in the Bering Sea and Aleutian Islands. The purpose of this action was to comply with Section 304(d) of the Magnuson-Stevens Act, which authorizes and requires the National Marine Fisheries Service to collect fees for limited access permit programs and the Western Alaska Community Development Quota program.The fees collected will be used to recover the actual costs directly related to the management, data collection, and enforcement of these programs that are incurred by the National Marine Fisheries Service.

Timetable:

Action | Date | FR Cite
NPRM | 01/07/15 | 80 FR 935
NPRM Comment Period End | 02/06/15 |
Final Action | 01/05/16 | 81 FR 150
Final Action Effective | 02/04/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE05

77. Generic Accountability Measure and Dolphin Allocation Amendment for the South Atlantic Region

Legal Authority: 16 U.S.C. 1801 et seq.

Abstract: Amendment 34 and Amendment 9 established modifications to accountability measures for snapper-grouper species and golden crab to create a more consistent regulatory environment while ensuring overfishing does not occur. Amendment 8 modified sector allocations for dolphin.

Timetable:

Action | Date | FR Cite
Notice | 07/15/15 | 80 FR 41472
NPRM | 09/29/15 | 80 FR 58448
NPRM Comment Period End | 10/29/15 |
Final Action | 01/22/16 | 81 FR 3731
Final Action Effective | 02/22/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE38

78. International Fisheries; Western and Central Pacific Fisheries for Highly Migratory Species; Fishing Effort and Catch Limits and Other Restrictions and Requirements

Legal Authority: 16 U.S.C. 6901 et seq.

Abstract: This rule established a framework under which the National Marine Fisheries Service (NMFS) could specify limits on fishing effort and catches, as well as spatial and temporal restrictions on particular fishing activities, in U.S. fisheries for highly migratory fish species in the western and central Pacific Ocean. NMFS will issue the specifications as needed to implement conservation and management measures adopted by the Commission for the Conservation and Management of Highly Migratory Fish Stocks in the Western and Central Pacific Ocean. The rule also requires that U.S. fishing vessels of a certain size obtain International Maritime Organizational numbers, and prohibits U.S. longline fishing vessels from using shark lines, which are used in some fisheries to target sharks. This action was necessary for the United States to satisfy its obligations under the Convention on the Conservation and Management of Highly Migratory Fish Stocks in the Western and Central Pacific Ocean, to which it is a Contracting Party.

Timetable:

Action | Date | FR Cite
NPRM | 07/23/15 | 80 FR 43694
NPRM Comment Period End | 08/07/15 |
Final Action | 10/01/15 | 80 FR 59037
Final Action Effective | 11/30/15 |

Regulatory Flexibility Analysis Required: Yes.

Agency Contact: Michael Tosatto, Regional Administrator, Pacific Islands Region, Department of Commerce, National Oceanic and Atmospheric Administration, 1845 Wasp Boulevard, Building 176, Honolulu, HI 96818, Phone: 808 725-5000, Email: michael.tosatto@noaa.gov.

RIN: 0648-BE84

79. Revision of Skate Maximum Retainable Amounts in the Gulf of Alaska Groundfish Fishery

Legal Authority: 16 U.S.C. 1801 et seq.

Abstract: This rule reduced the maximum retainable amount of incidentally caught skates in directed fisheries for groundfish in the Gulf of Alaska to 5 percent, which allows a vessel to retain skates in an amount up to 5 percent of the weight of the target groundfish species onboard the vessel. The skate maximum retainable amount is intended to limit harvest of skates to the intrinsic rate of incidental catch of skates in Gulf of Alaska groundfish fisheries and to provide a disincentive for vessels to target skates. Skate harvests have increased in recent years and have exceeded the acceptable biological catch in some areas. This action was necessary to enhance conservation and management of skates by decreasing the incentive for vessels to target skates and to slow the harvest rate of skates.

Timetable:

Action | Date | FR Cite
NPRM | 07/10/15 | 80 FR 39734
NPRM Comment Period End | 08/10/15 |
Final Action | 12/28/15 | 80 FR 80695
Final Action Effective | 01/27/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE85

80. Amendment 44 to the Fishery Management Plan for Bering Sea/Aleutian Islands King and Tanner Crabs To Modify Right of First Refusal Provisions of the Crab Rationalization Program

Legal Authority: 16 U.S.C. 1801 et seq.; Pub. L. 109-241; Pub. L. 109-479

Abstract: This rule amended the Bering Sea and Aleutian Islands Crab Rationalization Program through two actions intended to benefit eligible crab communities by enhancing opportunities to retain community historical processing interests in the Bering Sea and Aleutian Islands crab fisheries. The action modified the right of first refusal provisions that provide eligible crab community entities with the opportunity to purchase processor quota shares and other associated assets proposed for sale. The first action affects about 21 processor quota shareholders. The rule requires all persons holding processor quota share to provide annual notification to NMFS regarding the status of the right of first refusal for all processor quota share holdings. The second action amends regulations to separate the combined individual fishing quota/individual processor quota application into two applications, and revised reporting requirements for crab cooperatives.

Timetable:

Action | Date | FR Cite
NPRM | 10/22/15 | 80 FR 63950
NPRM Comment Period End | 11/23/15 |
Final Action | 01/13/16 | 81 FR 1557
Final Action Effective | 02/12/16 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE98

81. Framework Amendment 3 to the Fishery Management Plan for the Coastal Migratory Pelagic Resources of the Gulf of Mexico and Atlantic Region

Legal Authority: 16 U.S.C. 1801 et seq.

Abstract: This rule modified trip limits, accountability measures, electronic reporting requirements, and gillnet permit requirements for commercial king mackerel landed by gillnet in the Gulf of Mexico. This action was necessary to increase efficiency, stability, and accountability, and to reduce the potential for regulatory discards in the commercial king mackerel gillnet component of the fishery.

Timetable:

Action | Date | FR Cite
NPRM | 10/07/15 | 80 FR 60605
NPRM Comment Period End | 11/06/15 |
Final Action | 12/17/15 | 80 FR 78670
Final Action Effective | 01/19/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF14

82. Framework Amendment to the Fishery Management Plan for the Reef Fish Resources of the Gulf of Mexico To Modify Greater Amberjack Allowable Harvest and Management Measures

Legal Authority: 16 U.S.C. 1801 et seq.

Abstract: The intent of this action is to end overfishing and rebuild the Gulf of Mexico greater amberjack stock. A 2014 stock assessment indicated the Gulf of Mexico greater amberjack stock remains overfished and is undergoing overfishing. Allowable harvest was reduced and will remain constant until changed based on new scientific information. To better constrain catches to the allowable harvest levels, the recreational minimum size limit was increased from 30 inches fork length to 34 inches fork length, and the commercial trip limit was reduced from 1,923 pounds gutted weight to 1,500 pounds gutted weight.

Timetable:

Action | Date | FR Cite
NPRM | 09/17/15 | 80 FR 55821
NPRM Comment Period End | 10/19/15 |
Final Action | 12/02/15 | 80 FR 75432
Final Action Effective | 01/04/16 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF21

83. Framework Amendment to the Fishery Management Plan for the Reef Fish Resources of the Gulf of Mexico for Red Snapper Commercial Quota Retention for 2016

Legal Authority: 16 U.S.C. 1801 et seq.

Abstract: Pursuant to the Gulf of Mexico Fishery Management Council's request, this rule provided authority to withhold 4.9 percent of the 2016 red snapper commercial annual catch limit prior to distribution to the Individual Fishing Quota Program, in anticipation that this percentage may be reallocated to the recreational sector.

Timetable:

Action | Date | FR Cite
NPRM | 10/19/15 | 80 FR 63190
NPRM Comment Period End | 11/03/15 |
Final Action | 11/27/15 | 80 FR 73999
Final Action Effective | 12/28/15 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BF33

84. Designation of Critical Habitat for the North Atlantic Right Whale

Legal Authority: 16 U.S.C. 1361 et seq.; 16 U.S.C. 1531 et seq.

Abstract: The National Marine Fisheries Service revised the critical habitat designation for the North Atlantic right whale. This designation resulted in an expansion of critical habitat in the northeast feeding area (Gulf of Maine-Georges Bank region) and the southeast calving area (Florida to North Carolina) compared to what was designated in 1994 for right whales.

Timetable:

Action | Date | FR Cite
NPRM | 02/20/15 | 80 FR 9313
NPRM Comment Period End | 04/21/15 |
Final Action | 01/27/16 | 81 FR 4837
Final Action Effective | 02/26/16 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-AY54

85. Endangered and Threatened Species: Designation of Critical Habitat for Threatened Lower Columbia River Coho Salmon and Puget Sound Steelhead

Legal Authority: 16 U.S.C. 1531 et seq.

Abstract: This action designated critical habitat for lower Columbia River coho salmon and Puget Sound steelhead, currently listed as threatened species under the Endangered Species Act. The areas designated include freshwater and estuarine habitat in Oregon and Washington.

Timetable:

Action | Date | FR Cite
NPRM | 01/14/13 | 78 FR 2725
NPRM Comment Period End | 04/15/13 |
Final Action | 02/24/16 | 81 FR 9251
Final Action Effective | 03/25/16 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BB30

86. Revisions to Hawaiian Islands Humpback Whale National Marine Sanctuary Regulations

Legal Authority: 16 U.S.C. 1431 et seq.; Pub. L. 102-587

Abstract: In 2010, the Office of National Marine Sanctuaries (ONMS) initiated a review of the Hawaiian Islands Humpback Whale National Marine Sanctuary management plan, to evaluate substantive progress toward implementing the goals for the sanctuary, and to make revisions to its management plan and regulations as necessary to fulfill the purposes and policies of the National Marine Sanctuaries Act (NMSA) and the Hawaiian Islands National Marine Sanctuary Act (HINMSA; title II, subtitle C, Pub. L. 102587). ONMS intends to publish a proposed rule and draft EIS that proposes to expand the scope of the sanctuary to ecosystem based management rather than concentrating on only humpback whales. In addition, possible boundary expansion will be discussed.

Timetable:

Action | Date | FR Cite
Notice | 07/14/10 | 75 FR 40759
NPRM | 03/26/15 | 80 FR 16223
Notice | 04/29/15 | 80 FR 23742
NPRM Comment Period End | 06/19/15 |
Withdrawn | 03/14/16 | 81 FR 13303

Regulatory Flexibility Analysis Required: Yes.

Agency Contact: Edward Lindelof, Department of Commerce, National Oceanic and Atmospheric Administration, 1315 East-West Highway, Silver Spring, MD 20910, Phone: 240 533-0641, Email: edward.lindelof@noaa.gov.

RIN: 0648-BD97

DEPARTMENT OF COMMERCE (DOC)

Patent and Trademark Office (PTO)

Proposed Rule Stage

87. • Trademark Fee Adjustment

Legal Authority: 15 U.S.C. 1113; 15 U.S.C. 1123; 35 U.S.C. 2; Section 10 of AIA Pub. L. 112-29

Abstract: The United States Patent and Trademark Office (Office) takes this action to set and adjust Trademark fee amounts to provide the Office with a sufficient amount of aggregate revenue to recover its aggregate cost of operations while helping the Office maintain a sustainable funding model, ensure integrity of the Trademark register, promote efficiency of processes, and incentivize electronic communications.

Timetable:

Action | Date | FR Cite
NPRM | 05/00/16 |
NPRM Comment Period End | 07/00/16 |
Final Action | 11/00/16 |
Final Action Effective | 01/00/17 |

Regulatory Flexibility Analysis Required: Yes.

Agency Contact: Jennifer Chicoski, Administrator for Trademark Policy and Procedure, Department of Commerce, Patent and Trademark Office, Commissioner for Trademarks, P.O. Box 1451, Alexandria, VA 22313, Phone: 571 272-8943, Fax: 571 273-8943, Email: jennifer.chicoski@uspto.gov.

RIN: 0651-AD08

[FR Doc. 2016-12900 Filed 6-8-16; 8:45 am]

BILLING CODE 3510-12-P